DEPARTMENT OF AGRICULTURE

Submission for OMB Review; Comment Request

March 18, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by April 28, 2014 will be considered. Written comments should be addressed to: Desk Officer for Agriculture, Office of Information and Regulatory Affairs, Office of Management and Budget (OMB), New Executive Office Building, 725—17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal Plant & Health Inspection Service

Title: Swine Health Protection.

OMB Control Number: 0579-0137.

Summary of Collection: Under the Animal Health Protection Act (7 U.S.C. 8301 et seq.) the Animal and Plant Health Inspection Service (APHIS) of the U.S. Department of Agriculture is authorized, among other things to prohibit or restrict the interstate movement of animals and animal products to prevent the dissemination within the United States of animal diseases and pests of livestock and to conduct programs to detect, control and eradicate pests and diseases of livestock. The regulations in 9 CFR parts 71 and 85 facilitate the pseudorabies (PRV) eradication program and general swine health by providing requirements for moving swine interstate within a production system. (A production system consists of separate farms that each specialize in a different phase of swine production such as sow herds, nursery herds, and finishing herds. These separate farms, all members of the same production system, may be located in more than one State.) APHIS will collect information using several APHIS forms.

Need and Use of the Information: APHIS will collect information on the number of swine being moved in a particular shipment, the shipment's point of origin, the shipment's destination, and the reason for the interstate movement. The documents used to gather the necessary information include: (1) The Permit of Move Restricted Animals (VS Form 1-27); (2) the certificate of veterinary inspection; (3) an owner-shipper statement; (4) the accredited veterinarian's statement concerning embryos for implantation and semen shipments; (5) a swine production system health plan; (6) an interstate movement report and notification; and (7) the completion and recordkeeping of a Quarterly Report of Pseudorabies Control Eradication Activities (VS Form 7-1). The documents provide APHIS with critical information concerning a shipment's history, which in turn enables APHIS to engage in swift, successful trackback investigation when infected swine are discovered. PRV is further controlled through depopulation and indemnity using an Appraisal and Indemnity Claim Form (VS Form 1-23), herd management plan, movement permit and report of net salvage proceeds.

Description of Respondents: Business or other for-profit; State, Local or Tribal Government.

Number of Respondents: 5,120.

Frequency of Responses: Recordkeeping; Reporting: On occasion.

Total Burden Hours: 35,696.

Animal and Plant Health Inspection Service

Title: Importation of Horses, Ruminants, Swine, and Dogs; Inspection and Treatment for Screwworm.

OMB Control Number: 0579-0165.

Summary of Collection: The Animal Health Protection Act (AHPA) of 2002 is the primary Federal law governing the protection of animal health. The law gives the Secretary of Agriculture broad authority to detect, control, or eradicate pest or diseases of livestock or poultry. The regulations under which the Animal and Plant Health Inspection Service (APHIS) conduct disease prevention activities are contained in Title 9, Chapter 1, Subchapter D, Parts 91 through 99. These regulations govern the importation of animals, birds and poultry, certain animal and poultry products, and animal germplasm. APHIS regulations ensure that horses, ruminants, swine, and dogs imported into the United States from regions of the world where screwworm is known to exist to be inspected and, if necessary, treated for infestation with screwworm.

Screwworm is a pest native to tropical areas of South America, the Indian subcontinent, Southeast Asia, tropical and sub-Saharan Africa, and the Arabian Peninsula that causes extensive damage to livestock and other warm-blooded animals.

Need and Use of the Information: APHIS requires the following documents to import horses, ruminants, swine, and dogs from regions where screwworm is known to exist: (1) An application for import or in-transit permit (VS 17-129); and (2) the health certificate. For the Application of Import the importer must describe the type, number, and identification of the animals or products to be exported. The origin, intended date and location of arrival, routes of travel, and destination of the animals or products must be listed on the application. The permit can only be used for the animals listed on the application. Horses, ruminants, swine, and dogs entering the United States from regions where screwworm is known to exist must be accompanied by a certificate, signed by a full-time salaried veterinary official of the exporting country, stating that these animals have been thoroughly examined, that they have been treated with ivermectin, that any visible wounds have been treated with coumaphos, and the animals appear to be free of screwworm.

Description of Respondents: Business or other for-profit; Federal Government.

Number of Respondents: 92.

Frequency of Responses: Reporting: On occasion.

Total Burden Hours: 485.

Ruth Brown,
Departmental Information Collection Clearance Officer.

[FR Doc. 2014-06274 Filed 3-26-14; 8:45 am]

BILLING CODE 3410-34-P